DEPARTMENT OF AGRICULTURE

Forest Service

Longleaf Ecosystem Restoration Project, National Forests in Alabama, Talladega National Forest, Oakmulgee Ranger District, Tuscaloosa, Hale, Bibb, and Perry Counties, AL

AGENCY: Forest Service, USDA.

ACTION: Notice of intent to prepare an Environmental Impact Statement.

SUMMARY: Forest Service will prepare an Environmental Impact Statement on a proposal to emphasize restoration of the longleaf ecosystem across the Talladega National Forest, Oakmulgee Ranger District in a systematic five-year program involving:

1. Intermediate thinning of approximately 3,726 acres of 20-70 year old off-site trees, primarily loblolly and shortleaf pine. Thinning would occur on 105 sites to remove damaged and diseased trees, to improve stand health, and to promote future longleaf pine establishment.

2. Intermediate thinning on approximately 2,324 acres to improve habitat for the endangered red-cockaded woodpecker (RCW), primarily longleaf pine that ranges in age from 25 to 95 years.

3. Restoration of the native longleaf pine ecosystem on 200 sites (approximately 6,700 acres) currently identified as off-site, high-risk stands, of declining loblolly pine, shortleaf pine, and pine-hardwood. Generally, existing longleaf pine and clumps of fire tolerant, upland hardwoods, will be retained. Longleaf pine will be restored by planting except where enough longleaf pine remains to naturally reestablish itself.

DATES: Comments concerning this analysis should be received in writing by July 25, 2002.

ADDRESSES: Send written comments to: Emanuel Hudson, District Ranger, Oakmulgee Ranger District, 9901 Highway 5, Brent, Alabama 35034.

FOR FURTHER INFORMATION CONTACT: Emanuel Hudson, District Ranger, Jim Shores, Silviculturist, Larry Mullins, NEPA Coordinator, Jim Mawk, Wildlife Biologist, Joe Fowler, Timber Management Assistant, Lovoyd Fountain, Engineering Technician, Telephone Number: (205) 926-9765, Fax Number: (205) 926-9712.

SUPPLEMENTARY INFORMATION:

A. The Proposal

1. Intermediate thinning of approximately 3,726 acres of 20-70 year old off-site trees, to increase vigor and growth and reduce short-term risk of Southern Pine Beetle (SPB) infestation. This thinning will begin the restoration process of changing these sites to longleaf pine/bluestem or longleaf pine/low shrub plant communities. These plant communities are structurally simple (pine overstory and bluestem grass/shrub understory), shaped primarily by the use of prescribed fire, and with occasional small gaps occurring from natural events.

2. Intermediate thinning on approximately 2,324 acres of red-cockaded woodpecker (RCW) habitat, primarily longleaf pine. These stands range in age from 25-95 years. Depending on site and stand condition, the objective of these thinnings is to produce medium stocked (70-100 basal area {BA}) longleaf pine stands with low SPB Risk Factor, which are desirable for RCW foraging and colonization.

3. Restoration cuts on approximately 6,700 acres of off-site, high-risk stands of declining loblolly pine, shortleaf pine and pine/hardwood to restore these sites to the native longleaf pine/bluestem or longleaf pine/low shrub plant communities. Generally, longleaf pine will not be removed in restoration cuts. However, if needed to improve stand health, some longleaf pine clumps with a BA > 70, may be thinned in the restoration cuts. This forest health treatment will require artificial regeneration of longleaf pine in most stands. In parts of stands where scattered longleaf pine trees exist, natural regeneration will be promoted.

4. Re-establish restoration cut areas with longleaf pine seedlings within five years of cutting. Site preparation on the 6,700 acres receiving restoration cuts would be accomplished using the herbicides Imazapyr (Trade name: Arsenal) and Triclopyr (Trade name: Garlon 3A & Garlon 4). This herbicide application would be used on competing vegetation remaining in restoration areas after harvest operations are complete. It would be followed by a prescribed burn to reduce logging debris to help accomplish site planting. Site preparation prescribed for each site will be the least intensive treatment needed to insure survival of the planted longleaf seedlings. If needed, herbicide application would also be used to release the pine seedlings from competition in the second growing season.

5. To help achieve the desired restoration, prescribed burning will be used to favor fire adapted species. Use of dormant season and growing season prescribed burns 2 or 3 times each decade, will reduce tree density and promote the growth of fire adapted grasses, forbs, and shrubs.

B. Needs for the Proposal

1. Restore the longleaf pine ecosystem to provide more suitable habitat for the red-cockaded woodpecker (RCW) to aid in recovery. RCW is an endangered species.

2. Return acreage occupied by other tree species to native longleaf pine and promote recovery of the longleaf ecosystem.

3. Establish a systematic program to aid in longleaf ecosystem restoration. Loblolly pine and shortleaf pine begin to loose vigor and exhibit decline symptoms at approximately age 50 on upland sites. They do not reach adequate age and size to provide sufficient cavity trees for RCW nesting habitat over the long term.

4. Loblolly pine and shortleaf pine are more susceptible to SPB than longleaf pine. Overstocked pine stands need thinning to minimize SPB hazard and to reduce potential impacts on other resources such as recreation, wildlife, soil and water.

5. Some of the off-site stands have woody/brushy midstory and understory. Thinning of these stands combined with prescribed burns will reduce the number of off-site and encroaching species. This would help restore and maintain a more grassy native groundcover.

6. Implement the goals and objectives of the Forest Plan to protect habitat and improve conditions for threatened, endangered and sensitive species occurring on National Forest lands.

C. Nature and Scope of the Decision To Be Made

Whether, and to what extent, to implement an accelerated program of restoring sites to longleaf pine and associated understory species. Historically, these sites were part of the longleaf pine ecosystem but now contain off-site species that were artificially introduced.

The fire dependent longleaf pine ecosystem was the most prevalent forest type in the south during pre-settlement times. During settlement, stands of longleaf pine were cleared for agricultural purposes and to obtain building materials. By 1929, most of the longleaf pine stands had been cut.

In the late 1960's and early 1970's regeneration of longleaf pine was difficult and often unsuccessful. Longleaf is more difficult to plant than other southern pines and most research on growing longleaf has only been done in recent years.

Beginning in 1985, through applied research, the availability of containerized seedlings, and experience, managers became very successful at planting longleaf pine with the expectation of adequate survival. Seedling survival on the Oakmulgee RD now averages about 85-90%. Currently, about 30,000 acres of native longleaf pine sites on the Oakmulgee Ranger District are growing loblolly and shortleaf pine. These stands are in various stages of collapse due to loblolly decline disease, and the demise of these older stands is occurring faster than they are being restored to longleaf at our current rate of restoration. This poses a serious threat to the endangered RCW due to its loss of habitat. Compounding this problem is the loss of many stressed and overstocked loblolly pine stands due to Southern Pine Beetle attack. Meanwhile, the associated threat of severe fire danger is increasing because of fuel build-up from dead timber.

The major reasons we are proposing this project are to reduce the loss of native plant communities, improve forest health, and improve RCW habitat. To overcome this loss of RCW habitat, there is a need to enhance or restore the longleaf pine ecosystem on the entire district. However, because of personnel, funding, and other constraints, for the first five year period, we have selected as a priority to treat stands most severely damaged by loblolly decline disease. The stands are also located where we currently have the largest concentration of RCW.

D. Proposed Scoping Process

The scoping period associated with this Notice of Intent (NOI) will be thirty (30) days in length, beginning the day after publication of this notice. Preliminary scoping for this proposal began in February 2002, when information was shared with the public on the proposal and plans to document the analysis in an Environmental Impact Statement (EIS). A public tour will be held on Saturday July 20, 2002 from 9 a.m. until 1 p.m. This tour is intended to show interested individuals a few of the sites proposed for treatment, as well as similar sites that have been treated in the past few years. This tour will serve as the public scoping meeting.

A preliminary proposal to improve forest health was developed after stand conditions were examined in 2001. The proposal has been refined since that time and some preliminary issues and alternatives have been developed and are included in this notice. A decision to proceed with an Environmental Impact Statement has been made due to potential effects for the RCW and the possible need for formal consultation with the Fish and Wildlife Service (USDI).

The Oakmulgee Ranger District is seeking additional information, comments, and assistance from Federal, State, and local agencies and other individuals or organizations that may be interested in or affected by the proposed action. This input will be used in preparation of the Draft Environmental Impact Statement (DEIS). The scoping process includes:

1. Identifying potential issues.

2. Identifying issues to be analyzed in depth.

3. Eliminating insignificant issues or those which have been covered by a previous relevant environmental analysis.

4. Exploring additional alternatives.

5. Identifying potential environmental effects of the proposed action and alternatives.

E. Preliminary Issues Identified to Date Include

1. How will aquatic habitats be impacted from harvests and site preparation? What inventory data will be needed?

2. What will be the impacts on TES/PETS/MIS (other than RCW)? What inventory data will we need to evaluate impacts?

3. Will prescribed burning negatively impact air quality? What will be the season of burning and interval of burning?

4. What will be the effect of herbicides on people, wildlife, and surface water/ground water?

5. Can off-site treatments to restore the longleaf pine ecosystem be implemented to have long-term (and possible short term) benefits to the RCW while having no negative impacts to the existing RCW population?

6. What impacts will the proposed action have on visual quality objectives?

7. What impacts will the proposed action have on recreational opportunities?

F. Possible Alternatives Identified to Date Include

1. No Action: This alternative will serve as a baseline for comparison of alternatives. Present management activities will continue, but the proposed project will not be done. This alternative will be fully developed and analyzed.

2. Proposed Action: As listed above, this alternative would include a five-year systematic program of thinning and restoration cuts. Site Preparation of the restoration areas would be accomplished using herbicides and prescribed burning. These site preparation methods would result in fully stocked stands of longleaf pine seedlings in three to five years after the restoration cuts are complete. Release of seedlings would be accomplished through the use of herbicides and prescribed burning. In addition, prescribed burning will be used to maintain habitat conditions for native species of plants and wildlife.

3. Modified Proposed Action: This alternative would include a five-year program of thinning and restoration cuts. Site preparation would be done using mechanized equipment; release of seedling would be with hand tools; and prescribed burning will not be used to maintain habitat conditions for native species of plants and wildlife.

G. Special Permit Needs

There are no special permits required from any State or Federal agencies in order to implement this project.

H. Lead Agency

The USDA Forest Service is the lead agency for this project. The Fish and Wildlife Service (USDI) has been involved with this proposal since inception and will continue to be throughout this analysis. Formal consultation may be required in order to implement one or more of the alternatives.

The Oakmulgee Ranger District requests that comments be as specific as possible for this proposal and be sent to: Emanuel Hudson, District Ranger, USDA Forest Service, 9901 Highway 5, Brent, Alabama 35034.

It is estimated that the draft EIS will be available for public comment by July 31, 2003. It is very important that those interested in this proposed action participate at this time. To be helpful, comments on the DEIS should be as specific as possible and may address the adequacy of the statement or the merits of the alternatives discussed (see the Council on Environmental Quality Regulations for implementing the procedural provisions of the National Environmental Policy Act at 40 CFR 1503.3).

In addition, Federal court decisions have established that reviewers of DEIS's must structure their participation in the environmental review of the proposal so that it is meaningful and alerts the agency to the reviewers' position and contentions: Vermon Yankee Nuclear Power Corp. v. NRDC, 435 U. S. 519, 553 (1978). Environmental objections that could have been raised at the draft stage may be waived if not raised until after completion of the final environmental impact statement (FEIS). City of Angoon v. Hodel, 803 F. 2d 1016, 1022 (9th Cir. 1986) and Wisconsin Heritages, Inc. v. Harris, 490 F. Supp. 1334, 1338 (E.D. Wis. 1980). The reason for this is to ensure that substantive comments and objections are made available to the Forest Service at a time when it can meaningfully consider them and respond to them in the FEIS.

Estimated Date for FEIS

After the DEIS comment period ends, the comments will be analyzed, considered, and responded to by the Forest Service in preparing the Final Environmental Impact Statement (FEIS). The FEIS is scheduled to be completed by November 2003. The responsible official will consider the comments, responses, environmental consequences discussed in the final supplement, applicable laws, regulations, and policies in making a decision regarding this proposal. The responsible official will document the decision and reasons for the decision in the Record of Decision (ROD). That decision will be subject to appeal under 36 CFR 215.

The responsible official for this project will be Emanuel Hudson, District Ranger for the Oakmulgee Ranger District, National Forest in Alabama at 9901 Highway 5, Brent, Alabama 35034.

Dated: June 11, 2002.
Emanuel Hudson,
District Ranger.

[FR Doc. 02-15155 Filed 6-14-02; 8:45 am]

BILLING CODE 3410-11-P